DEPARTMENT OF AGRICULTURE

Submission for OMB Review; Comment Request

July 6, 2005.

The Department of Agriculture has submitted the following information collection requirement(s) to OMB for review and clearance under the Paperwork Reduction Act of 1995, Public Law 104-13. Comments regarding (a) whether the collection of information is necessary for the proper performance of the functions of the agency, including whether the information will have practical utility; (b) the accuracy of the agency's estimate of burden including the validity of the methodology and assumptions used; (c) ways to enhance the quality, utility and clarity of the information to be collected; (d) ways to minimize the burden of the collection of information on those who are to respond, including through the use of appropriate automated, electronic, mechanical, or other technological collection techniques or other forms of information technology should be addressed to: Desk Officer for Agriculture, Office of Information and Regulatory Affairs, Office of Management and Budget (OMB), OIRA_Submission@OMB.EOP.GOV or fax (202) 395-5806 and to Departmental Clearance Office, USDA, OCIO, Mail Stop 7602, Washington, DC 20250-7602. Comments regarding these information collections are best assured of having their full effect if received within 30 days of this notification. Copies of the submission(s) may be obtained by calling (202) 720-8681.

An agency may not conduct or sponsor a collection of information unless the collection of information displays a currently valid OMB control number and the agency informs potential persons who are to respond to the collection of information that such persons are not required to respond to the collection of information unless it displays a currently valid OMB control number.

Forest Service

Title: Hispanic Perception and Use of the Urban Forest in Gainesville, GA.

OMB Control Number: 0596-NEW.

Summary of Collection: The proposed study relates to the Forest Service's national Urban and Community Forestry Program that focuses on community involvement with the urban forest. This research examines Hispanic residents' perceptions of and use of the urban forest where they live. This space includes yards outside private homes; common space in an apartment complex or mobile home park; neighborhood streets; and city parks. Hispanic use of outdoor environments in the Southeast is an important consideration for U.S. Forest Service State and Private Forest managers because of the impact of a growing population on the region's finite natural resources. Federal statutes that authorize this information collection include the Food Agriculture, Conservation, and Trade Act of 1990; Executive Order 12898 (1994) relating to environmental justice; and the National Environmental Policy Act of 1969.

Need and Use of the Information: FS will collect information focusing on (1) the perceptions Hispanics have of trees and other green space outside their homes; (2) the kinds of trees Hispanics prefer, such as oak, pine, sycamore; (3) the ways Hispanics use yard space; and (4) the perceptions Hispanics have of trees and other green space in their neighborhoods. The information will enable the FS to better understand the types of tree coverage and green spaces preferred by recent Hispanic immigrants and migrants to Gainesville, GA.

Description of Respondents: Individuals or households.

Number of Respondents: 300.

Frequency of Responses: Reporting: Quarterly.

Total Burden Hours: 75.

Charlene Parker,
Departmental Information Collection Clearance Officer.

[FR Doc. 05-13539 Filed 7-8-05; 8:45 am]

BILLING CODE 3410-11-P